NATIONAL CREDIT UNION ADMINISTRATION

Agency Information Collection Activities: Proposed Collection

AGENCY: National Credit Union Administration (NCUA).

ACTION: Notice and request for comments.

SUMMARY: The National Credit Union Administration (NCUA), as part of a continuing effort to reduce paperwork and respondent burden, invites the general public and other Federal agencies to comment on the following new collection, as required by the Paperwork Reduction Act of 1995.

DATES: Written comments should be received on or before October 27, 2023 to be assured consideration.

ADDRESSES: Interested persons are invited to submit written comments on the information collection to Rena Y. Kim, National Credit Union Administration, 1775 Duke Street, Suite 6032, Alexandria, Virginia 22314; email at PRAComments@NCUA.gov.

FOR FURTHER INFORMATION CONTACT: Address requests for additional information to Rena Y. Kim at the address above or telephone 703-548-2398.

SUPPLEMENTARY INFORMATION:

OMB Number: 3133-NEW.

Title: NCUA Speaker and Chairman Request Forms.

Type of Review: New collection.

Abstract: The Federal Credit Union (FCU) Act of 1970 (12 U.S.C. 1752) established the National Credit Union Administration (NCUA) as an independent agency, in control of regulating and supervising Federal credit unions. This mission requires coordination and collaboration with credit unions, other Federal agencies, and consumers to provide a safe and sound credit union system. As part of its collaboration efforts, the NCUA receives requests annually for NCUA leadership and staff to participate in speaking engagements at various events. This digital collection of information is necessary to ensure an efficient and timely process to schedule outreach and engagement with NCUA stakeholders. As a result of the requests received for speaking engagements, the NCUA has developed two forms, (1) the Speaker Request Form and, (2) the Chairman Request Form; and is requesting approval from the Office of Management and Budget (OMB) for a new information collection. The forms collect information regarding the requested speaking engagement to include, the host organization, the speaking topic, agenda, and additional event details. The information is used to determine if accepting the request will further NCUA's mission.

Affected Public: Private and Public Sectors: NCUA Stakeholders potentially including credit unions and credit union organizations, other Federal and state agencies, and consumers groups.

Estimated Number of Respondents: 152.

Estimated Number of Responses per Respondent: 1.

Estimated Total Annual Responses: 152.

Estimated Hours per Response: 0.25.

Estimated Total Annual Burden Hours: 38.

Request for Comments: Comments submitted in response to this notice will be summarized and included in the request for OMB approval. All comments will become a matter of public record. The public is invited to submit comments concerning: (a) whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-18404 Filed 8-25-23; 8:45 am]

BILLING CODE 7535-01-P